FEDERAL COMMUNICATIONS COMMISSION

Sunshine Act Meeting

September 6, 2001.

Open Commission Meeting, Thursday, September 13, 2001

The Federal Communications Commission will hold an Open Meeting on the subjects listed below on Thursday, September 13, 2001, which is scheduled to commerce at 9:30 a.m. in Room TW-C305, at 445 12th Street, SW., Washington, DC.

Item No., Bureau and Subject

1. Common Carrier—Title: 2000 Biennial Regulatory Review; Separate Affiliate Requirements of Section 64.1903 of the Commission's Rules (CC Docket No. 00-175). Summary: The Commission will consider a Notice Proposal Rule Making to reexamine the Commission's rule that establishes safeguards for the provision of in-region, interexchange services by incumbent independent local exchange carriers.

2. Mass Media—Title: Cross-Ownership of Broadcast Stations and Newspapers; and Newspaper/Radio Cross-Ownership Waiver Policy (MM Docket No. 96-197). Summary: The Commission will consider a Notice of Proposed Rule Making to modify its rule and/or waiver policies relating to common ownership of broadcast stations and newspaper in the same geographic area.

3. Cable Services—Title: Implementation of Section 11 of the Cable Television Consumer Protection and Competition Act of 1992 (CS Docket No. 98-82); Implementation of Cable Act Reform Provisions of the Telecommunications Act of 1996 (CS Docket No. 96-85); and The Commission's Cable Horizontal and Vertical Ownership Limits and Attribution Rules (MM Docket No. 92-246). Summary: The Commission will consider a Further Notice of Proposed Rule Making concerning its cable horizontal and vertical ownership limits and certain aspects of its attribution rules as affected by the recent DC, Circuit decision in Time Warner Entertainment Co. v. FCC.

4. Office of Engineering and Technology—Title: Authorization and Use of Software Defined Radios (ET Docket No. 00-47). Summary: The Commission will consider a First Report and Order to streamline the equipment authorization procedures for software defined radios.

Additional information concerning this meeting may be obtained from Maureen Peratino or David Fiske, Office of Media Relations, telephone number (202) 418-0500; TTY 1-888-835-5322.

Copies of materials adopted at this meeting can be purchased from the FCC's duplicating contractor, Qualex International at (202) 863-2893; fax (202) 863-2898; TTY (202) 863-2897. These copies are available in paper format and alternative media, including large print/type, digital disk, and audio tape. Qualex International may be reached by e-mail at qualexint@aol.com

This meeting can be viewed over George Mason University's Capitol Connection. The Capitol Connection also will carry the meeting live via the Internet. For information on these services call (703) 993-3100. The audio portion of the meeting will be broadcast live on the Internet via the FCC's Internet audio broadcast page at http://www.fcc.gov/realaudio/. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 01-22939 Filed 9-7-01; 3:53 pm]

BILLING CODE 6712-01-M